DEPARTMENT OF COMMERCE

International Trade Administration

19 CFR Part 351

RIN 0625-AA91

Modification of Regulations Regarding the Definition of Factual Information and Time Limits for Submission of Factual Information

AGENCY: Import Administration, International Trade Administration, Department of Commerce.

ACTION: Proposed rule; extension of comment period.

SUMMARY: On July 10, 2012, the Department of Commerce (the Department) published a proposed rule in the Federal Register requesting comments regarding a proposed modification to the definition of factual information and to the time limits for the submission of factual information in antidumping (AD) and countervailing duty (CVD) proceedings. The Department has decided to extend the comment period, making the new deadline for the submission of public comment September 24, 2012.

DATES: To be assured of consideration, comments must be received no later than September 24, 2012.

ADDRESSES: All comments must be submitted through the Federal eRulemaking Portal at http://www.regulations.gov, Docket No. ITA-2012-0004, unless the commenter does not have access to the internet. Commenters who do not have access to the internet may submit the original and two copies of each set of comments by mail or hand delivery/courier. All comments should be addressed to Paul Piquado, Assistant Secretary for Import Administration, Room 1870, Department of Commerce, 14th Street and Constitution Ave. NW., Washington, DC 20230. The comments should also be identified by Regulation Identifier Number (RIN) 0625-AA91.

The Department will consider all comments received before the close of the comment period. The Department will not accept comments accompanied by a request that part or all of the material be treated confidentially because of its business proprietary nature or for any other reason. All comments responding to this notice will be a matter of public record and will be available for inspection at Import Administration's Central Records Unit (Room 7046 of the Herbert C. Hoover Building) and online at http://www.regulations.gov and on the Department's Web site at http://www.trade.gov/ia/.

Any questions concerning file formatting, document conversion, access on the internet, or other electronic filing issues should be addressed to Andrew Lee Beller, Import Administration Webmaster, at (202) 482-0866, email address: webmaster-support@ita.doc.gov.

FOR FURTHER INFORMATION CONTACT: Joanna Theiss at (202) 482-5052 or Charles Vannatta at (202) 482-4036.

SUPPLEMENTARY INFORMATION: On July 10, 2012, the Department published a proposed rule in the Federal Register requesting comments regarding a proposed modification to the definition of factual information and to the time limits for the submission of factual information in AD and CVD proceedings. See Modification of Regulations Regarding the Definition of Factual Information and Time Limits for Submission of Factual Information, 77 FR 40534 (July 10, 2012). That notice indicated that public comments are due on August 24, 2012. On August 14, 2012, the Committee to Support U.S. Trade Laws requested that the Department extend this deadline. In response to this request, and to ensure parties have the opportunity to prepare thorough and comprehensive comments, the Department is extending the deadline for submitting comments by thirty days, until September 24, 2012. Comments received after the end of the comment period will be considered, if possible, but their consideration cannot be assured.

Dated: August 16, 2012.
Ronald K. Lorentzen,
Acting Assistant Secretary for Import Administration.

[FR Doc. 2012-20785 Filed 8-22-12; 8:45 am]

BILLING CODE 3510-DS-P